DEPARTMENT OF ENERGY

Federal Energy Regulatory Commission

[Docket No. RP97-13-011]

East Tennessee Natural Gas Company; Notice of Compliance Filing

December 4, 2003.

Take notice that on December 1, 2003, East Tennessee Natural Gas Company (East Tennessee) tendered for filing as part of its FERC Gas Tariff, Second Revised Volume No. 1, Substitute Fourth Revised Sheet No. 177, proposed to be effective on November 21, 2003.

East Tennessee states that the purpose of this filing is to comply with the Commission's Order, dated October 31, 2003, in the captioned proceeding. East Tennessee also states that it filed narrative responses and a table, in Appendix B attached to the filing, in compliance with the October 31 Order.

East Tennessee states that copies of the filing were mailed to all parties on the Official Service List in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00526 Filed 12-10-03; 8:45 am]

BILLING CODE 6717-01-P